DEPARTMENT OF DEFENSE

GENERAL SERVICES ADMINISTRATION

NATIONAL AERONAUTICS AND SPACE ADMINISTRATION

48 CFR Parts 2, 5, 6, 7, 8, 16, 22, 47, and 52

[FAC 2022-02; FAR Case 2021-003; Item I; Docket No. FAR-2021-0003; Sequence No. 1]

RIN 9000-AO21

Federal Acquisition Regulation: Update to Certain Online References in the FAR

AGENCY: Department of Defense (DoD), General Services Administration (GSA), and National Aeronautics and Space Administration (NASA).

ACTION: Final rule.

SUMMARY: DoD, GSA, and NASA are issuing a final rule amending the Federal Acquisition Regulation (FAR) to replace FAR references to Federal Business Opportunities (FBO.gov) and Wage Determinations Online (WDOL.gov) websites with the System for Award Management (SAM.gov) website because of their integration with and the increased functionality of SAM.gov.

DATES: Effective January 14, 2022.

FOR FURTHER INFORMATION CONTACT: Mr. Curtis E. Glover, Sr., Procurement Analyst, at 202-501-1448 or by email at curtis.glover@gsa.gov for clarification of content. For information pertaining to status or publication schedules, contact the Regulatory Secretariat Division at 202-501-4755 or GSARegSec@gsa.gov. Please cite FAC 2022-02, FAR Case 2021-003.

SUPPLEMENTARY INFORMATION:

I. Background

DoD, GSA, and NASA are amending the Federal Acquisition Regulation (FAR) to replace references to Federal Business Opportunities (FBO.gov) and Wage Determinations Online (WDOL.gov) websites with the System for Award Management (SAM.gov) website because of their integration with and the increased functionality of SAM.gov.

The System for Award Management (SAM) is a Federal website that consolidates the capabilities of Central Contractor Registration (CCR), Online Representations and Certifications Applications (ORCA), and the Excluded Parties List System (EPLS) and continues to evolve to incorporate the capabilities of other systems used in Federal procurement processes.

On April 26, 2021, legacy SAM.gov functionality was integrated with beta.SAM.gov and renamed to SAM.gov. As a result of the integration, SAM.gov now includes the site for users to execute actions formerly accomplished on Federal Business Opportunities (FBO.gov) and Wage Determinations Online (WDOL.gov). In response, the FAR needs to be updated to remove obsolete names and URL references and incorporate in their place the new SAM.gov website.

II. Publication of This Final Rule for Public Comment Is Not Required by Statute

The statute that applies to the publication of the Federal Acquisition Regulation (FAR) is 41 U.S.C. 1707. Subsection (a)(1) of 41 U.S.C. 1707 requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This final rule is not required to be published for public comment, because it does not have a significant effect or impose any new requirements on contractors or offerors. The rule simply replaces FAR references to Federal Business Opportunities (FBO.gov) and Wage Determinations Online (WDOL.gov) with the System for Award Management (SAM.gov).

III. Applicability to Contracts at or Below the Simplified Acquisition Threshold (SAT) and for Commercial Products, Including Commercially Available Off-the-Shelf (COTS) Items, or for Commercial Services

This rule simply replaces references to Federal Business Opportunities (FBO.gov) and Wage Determinations Online (WDOL.gov) with the System for Award Management (SAM.gov). This rule does not impose any new requirements on contracts at or below the SAT, or to acquisitions for commercial products (including COTS items) or for commercial services.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993.

V. Congressional Review Act

As required by the Congressional Review Act (5 U.S.C. 801-808) before an interim or final rule takes effect, DoD, GSA, and NASA will send the rule and the “Submission of Federal Rules Under the Congressional Review Act” form to each House of the Congress and to the Comptroller General of the United States. A major rule cannot take effect until 60 days after it is published in the Federal Register. The Office of Information and Regulatory Affairs (OIRA) in the Office of Management and Budget has determined that this is not a major rule under 5 U.S.C. 804.

VI. Regulatory Flexibility Act

The Regulatory Flexibility Act (5 U.S.C. 601 et seq.) does not apply to this rule, because a notice of proposed rulemaking and an opportunity for public comment are not required to be given for this rule under 41 U.S.C. 1707(a)(1) (see section III. of this preamble). Accordingly, no regulatory flexibility analysis is required and none has been prepared.

VII. Paperwork Reduction Act

The rule does not contain any information collection requirements that require the approval of the Office of Management and Budget under the Paperwork Reduction Act (44 U.S.C. 3501-3521).

List of Subjects in 48 CFR Parts 2, 5, 6, 7, 8, 16, 22, 47, and 52

Government procurement.

William F. Clark,
Director, Office of Government-wide Acquisition Policy, Office of Acquisition Policy, Office of Government-wide Policy.

Therefore, DoD, GSA, and NASA amend 48 CFR parts 2, 5, 6, 7, 8, 16, 22, 47, and 52 as set forth below:

1. The authority citation for 48 CFR parts 2, 5, 6, 7, 8, 16, 22, 47, and 52 continues to read as follows:

Authority: 40 U.S.C. 121(c); 10 U.S.C. chapter 137; and 51 U.S.C. 20113.

PART 2—DEFINITIONS OF WORDS AND TERMS

2.101 [Amended]

2. Amend section 2.101 in paragraph (b)(2), in the definition “Governmentwide point of entry (GPE)” by removing “https://www.fbo.gov” and adding “https://www.sam.gov” in its place.

PART 5—PUBLICIZING CONTRACT ACTIONS

5.102 [Amended]

3. Amend section 5.102 by removing from paragraph (a)(1) “https://www.fbo.gov” and adding “https://www.sam.gov” in its place.

5.201 [Amended]

4. Amend section 5.201 by removing from paragraph (d) “https://www.fbo.gov” and adding “https://www.sam.gov” in its place.

5.207 [Amended]

5. Amend section 5.207 by—

a. Removing from paragraphs (b) and (c)(19) “https://www.fbo.gov” and adding “https://www.sam.gov” in their places, respectively; and

b. Removing from paragraph (e) “https://www.fbo.gov/” and adding “https://www.sam.gov” in its place.

5.704 [Amended]

6. Amend section 5.704 by removing from paragraph (b) introductory text “https://www.fbo.gov” and adding “https://www.sam.gov” in its place.

5.705 [Amended]

7. Amend section 5.705 by removing from paragraphs (a)(2) introductory text and (c) “https://www.fbo.gov” and adding “https://www.sam.gov” in their places, respectively.

PART 6—COMPETITION REQUIREMENTS

6.305 [Amended]

8. Amend section 6.305 by removing from paragraph (d)(1) “https://www.fbo.gov” and adding “https://www.sam.gov” in its place.

PART 7—ACQUISITION PLANNING

7.105 [Amended]

9. Amend section 7.105 by removing from paragraph (b)(16) “https://www.fbo.gov” and adding “https://www.sam.gov” in its place.

PART 8—REQUIRED SOURCES OF SUPPLIES AND SERVICES

8.405-6 [Amended]

10. Amend section 8.405-6 by removing from paragraph (a)(2)(i)(B)(1) “https://www.fbo.gov” and adding “https://www.sam.gov” in its place.

8.602 [Amended]

11. Amend section 8.602 by removing from paragraphs (a)(4)(ii)(A) and (B) “FedBizOpps, also known as FBO” and adding “Contract Opportunities at SAM.gov” in its place.

PART 16—TYPES OF CONTRACTS

16.505 [Amended]

12. Amend section 16.505 by removing from paragraph (b)(2)(ii)(D)(2)(i) “https://www.fbo.gov” and adding “https://www.sam.gov” in its place.

PART 22—APPLICATION OF LABOR LAWS TO GOVERNMENT ACQUISITIONS

13. Amend section 22.001 by—

a. In the definition “e98” removing “http://www.wdol.gov” and adding “https://www.sam.gov” in its place; and

b. Removing the definition of “Wage Determinations OnLine (WDOL)” and adding a definition for “Wage Determinations at SAM.gov” in its places.

The addition reads as follows:

22.001 Definitions.

* * * * *

Wage Determinations at SAM.gov means the Government internet website for both Construction Wage Rate Requirements statute and Service Contract Labor Standards statute wage determinations available at https://www.sam.gov.

14. Amend section 22.404-1 by revising paragraph (a)(2) to read as follows:

22.404-1 Types of wage determinations.

(a) * * *

(2) General wage determinations are published on the Wage Determinations at SAM.gov website. General wage determinations are effective on the publication date of the wage determination or upon receipt of the wage determination by the contracting agency, whichever occurs first. “Publication” within the meaning of this section shall occur on the first date the wage determination is published on the Wage Determinations at SAM.gov. Archived Construction Wage Rate Requirements statute general wage determinations that are no longer current may be accessed in the “Archived DB WD” database on Wage Determinations at SAM.gov website for information purposes only. Contracting officers may not use an archived wage determination in a contract action without obtaining prior approval of the Department of Labor. To obtain prior approval, contact the Department of Labor, Wage and Hour Division, using https://www.sam.gov, or contact the procurement agency labor advisor listed on https://www.sam.gov.

* * * * *

22.404-3 [Amended]

15. Amend section 22.404-3 by removing from paragraph (a) and paragraph (b) introductory text “WDOL” and adding “Wage Determinations at SAM.gov” in its place.

22.404-6 [Amended]

16. Amend section 22.404-6 by removing from paragraphs (a)(3), (b)(1)(i) and (ii), (b)(2) and (6), (c)(1), and (d)(1)(ii), “WDOL” and adding “Wage Determinations at SAM.gov” in its place, wherever it appears.

22.1008-1 [Amended]

17. Amend section 22.1008-1 by removing from paragraphs (a), (c), (d), and (e)(1), “WDOL” and adding “Wage Determinations at SAM.gov” in its place, wherever it appears.

22.1008-2 [Amended]

18. Amend section 22.1008-2 by removing from paragraphs (d)(2) and (3) and (g) introductory text “WDOL” and adding “Wage Determinations at SAM.gov” in its place.

22.1012-1 [Amended]

19. Amend section 22.1012-1 by removing from paragraphs (a)(1)(i) and (a)(2) “WDOL” and adding “Wage Determinations at SAM.gov” in its place.

22.1012-2 [Amended]

20. Amend section 22.1012-2 by removing from paragraph (d) “WDOL” and adding “Wage Determinations at SAM.gov” in its place.

22.1903 [Amended]

21. Amend section 22.1903 by removing from paragraph (c) “http://www.wdol.gov” and adding “https://www.sam.gov” in its place.

22.1904 [Amended]

22. Amend section 22.1904 by removing from paragraph (a)(2) “Wage Determinations OnLine (WDOL), http://www.wdol.gov” and adding “Wage Determinations at SAM.gov, https://www.sam.gov” in its place.

PART 47—TRANSPORTATION

23. Amend section 47.202 by revising paragraph (a) to read as follows:

47.202 Presolicitation planning.

* * * * *

(a) The Service Contract Labor Standards statute requirement to obtain a wage determination by accessing the Wage Determinations at SAM.gov website (https://www.sam.gov) using the Wage Determinations at SAM.gov process or by submitting a request directly to the Department of Labor on this website using the e98 process before the issuance of an invitation for bid, request for proposal, or commencement of negotiations for any contract exceeding $2,500 that may be subject to the Service Contract Labor Standards statute (see subpart 22.10);

* * * * *

PART 52—SOLICITATION PROVISIONS AND CONTRACT CLAUSES

24. Amend section 52.212-5 by—

a. Revising the date of the clause;

b. Removing from paragraph (c)(7) “(NOV 2020)” and adding “(JAN 2022)” in its place;

c. Removing from paragraph (e)(1)(xvii) “(NOV 2020)” and adding “(JAN 2022)” in its place; and

d. In Alternate II—

i. Revising the date of the Alternate; and

ii. Removing from paragraph (e)(1)(ii)(P) “(NOV 2020)” and adding “(JAN 2022)” in its place.

The revisions read as follows:

52.212-5 Contract Terms and Conditions Required To Implement Statutes or Executive Orders—Commercial Products and Commercial Services.

* * * * *

Contract Terms and Conditions Required To Implement Statutes or Executive Orders—Commercial Products and Commercial Services (JAN 2022)

* * * * *

Alternate II (JAN 2022). * * *

* * * * *

25. Amend section 52.213-4 by—

a. Revising the date of the clause;

b. Revising paragraph (a)(2)(viii); and

c. Removing from paragraph (b)(1)(ix) “(NOV 2020)” and adding “(JAN 2022)” in its place.

The revisions read as follows:

52.213-4 Terms and Conditions—Simplified Acquisitions (Other than Commercial Products and Commercial Services).

* * * * *

Terms and Conditions—Simplified Acquisitions (Other Than Commercial Products and Commercial Services) (JAN 2022)

(a) * * *

(2) * * *

(viii) 52.244-6 Subcontracts for Commercial Products and Commercial Items (JAN 2022).

* * * * *

26. Amend section 52.222-55 by—

a. Revising the date of the clause; and

b. Removing from paragraph (b)(2) “www.wdol.gov” and adding “https://www.sam.gov” in its place.

The revision reads as follows:

52.222-55 Minimum Wages Under Executive Order 13658.

* * * * *

Minimum Wages Under Executive Order 13658 (JAN 2022)

* * * * *

27. Amend section 52.244-6 by—

a. Revising the date of the clause; and

b. Removing from paragraph (c)(1)(xv) “(NOV 2020)” and adding “(JAN 2022)” in its place.

The revision reads as follows:

52.244-6 Subcontracts for Commercial Products and Commercial Services.

* * * * *

Subcontracts for Commercial Products and Commercial Services (JAN 2022)

* * * * *

[FR Doc. 2021-26802 Filed 12-14-21; 8:45 am]

BILLING CODE 6820-EP-P